DEPARTMENT OF COMMERCE

International Trade Administration

[A-570-192]

Erythritol From People's Republic of China: Final Affirmative Determination of Sales at Less Than Fair Value

AGENCY: Enforcement and Compliance, International Trade Administration, Department of Commerce.

SUMMARY: The U.S. Department of Commerce (Commerce) determines that erythritol from the People's Republic of China (China) is being, or is likely to be, sold in the United States at less than fair value (LTFV). The period of investigation (POI) is April 1, 2024, through September 30, 2024.

DATES: Applicable February 10, 2026.

FOR FURTHER INFORMATION CONTACT: Hannah Lee or Brian Smith, AD/CVD Operations, Office VIII, Enforcement and Compliance, International Trade Administration, U.S. Department of Commerce, 1401 Constitution Avenue NW, Washington, DC 20230; telephone: (202) 482-1216 or (202) 482-1766, respectively.

SUPPLEMENTARY INFORMATION:

Background

On July 16, 2025, Commerce published the Preliminary Determination in the Federal Register and invited interested parties to comment.¹ Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Accordingly, the deadline for these final results is now February 4, 2026. For a complete description of the events that followed the Preliminary Determination, see the Issues and Decision Memorandum.⁴

¹ See Erythritol from the People's Republic of China: Preliminary Affirmative Determination of Sales at Less Than Fair Value, Postponement of Final Determination and Extension of Provisional Measures, 90 FR 31962 (July 16, 2025) (Preliminary Determination), and accompanying Preliminary Decision Memorandum (PDM).

² See Memorandum, “Deadlines Affected by the Shutdown of the Federal Government,” dated November 14, 2025.

³ See Memorandum, “Tolling of all Case Deadlines,” dated November 24, 2025.

⁴ See Memorandum, “Issues and Decision Memorandum for the Final Affirmative Determination in the Less-Than-Fair-Value Investigation of Erythritol from the People's Republic of China,” dated concurrently with, and hereby adopted by, this notice (Issues and Decision Memorandum).

The Issues and Decision Memorandum is a public document and is on file electronically via ACCESS. ACCESS is available to registered users at http://access.trade.gov. In addition, a complete version of the Issues and Decision Memorandum can be accessed directly at https://access.trade.gov/public/FRNoticesListLayout.aspx.

Scope of the Investigation

The product covered by this investigation is erythritol from China. For a complete description of the scope of this investigation, see Appendix I.

Scope Comments

In the Preliminary Scope Memorandum, we set aside a period of time for parties to raise issues regarding product coverage (i.e., scope) in scope-specific case briefs or other written comments.⁵ We received comments from interested parties on the scope of the investigation as it appeared in the Preliminary Determination. For a summary of the product coverage comments submitted to the record for this final determination, and accompanying discussion and analysis of all comments timely received, see the Final Scope Decision Memorandum.⁶ After analyzing these comments, we made one change to the scope of the investigation. Commerce is therefore modifying the scope language as it appeared in the Initiation Notice and Preliminary Determination. See the scope in Appendix I to this notice.

⁵ See Memorandum, “Less-Than-Fair-Value and Countervailing Duty Investigations of Erythritol from the People's Republic of China: Preliminary Scope Decision Memorandum,” dated July 11, 2025 (Preliminary Scope Memorandum).

⁶ See Memorandum, “Final Scope Decision Memorandum,” dated concurrently with this final determination (Final Scope Decision Memorandum).

Verification

Because Commerce found that the mandatory respondents are not eligible for a separate rate, and are therefore part of the China-wide entity in this final determination, and because Commerce found that the China-wide entity has been found to be uncooperative, Commerce did not conduct verification.⁷

⁷ See Preliminary Determination.

Analysis of Comments Received

The issues raised in the case and rebuttal briefs by the parties in this investigation are discussed in the Issues and Decision Memorandum. For a list of the issues raised by interested parties and addressed in the Issues and Decision Memorandum, see Appendix II.

Changes Since the Preliminary Determination

Based on analysis of the information and comments received from interested parties for this final determination, Commerce has made a change to its preliminary separate rate determination with respect to Baolingbao Biology Co., Ltd. (Baolingbao). We also made certain changes to the weighted-average dumping margins assigned to the China-Wide Entity and to non-examined companies that are eligible for a separate rate. For a discussion of these changes, see the Issues and Decision Memorandum.

Application of Adverse Facts Available (AFA) to the China-Wide Entity

Consistent with the Preliminary Determination,⁸ Commerce relied solely on the use of AFA for the China-wide entity, pursuant to sections 776(a) and (b) of the Tariff Act of 1930, as amended (the Act), in determining the dumping rate for the China-wide entity.⁹ For this final determination, we continue to apply AFA to the China-wide entity. For further discussion, see the Issues and Decision Memorandum.

⁸ See Preliminary Determination PDM at 17-20.

⁹ See sections 776(a)(1) and (2)(A)-(C) and (b) of the Act.

Separate Rates

Consistent with the Preliminary Determination, and Policy Bulletin 05.1,¹⁰ Commerce calculated combination rates for the companies that are eligible for a separate rate. In calculating the rate for separate rate companies in a non-market economy LTFV investigation, Commerce normally looks to section 735(c)(5)(A) of the Act, which pertains to the calculation of the all-others rate in a market economy LTFV investigation, for guidance. Pursuant to section 735(c)(5)(A) of the Act, normally this rate shall be an amount equal to the weighted average of the estimated weighted-average dumping margins established for those companies individually examined, excluding zero and de minimis rates, and rates based entirely under section 776 of the Act. There are no estimated weighted-average dumping margins in this final determination for individually examined companies that are not zero, de minimis or based entirely under section 776 of the Act. In investigations where no estimated weighted-average dumping margins other than zero, de minimis, or those determined entirely under section 776 of the Act have been established for individually examined entities, in accordance with section 735(c)(5)(B) of the Act, Commerce typically calculates a simple average of the dumping margins alleged in the petition and applies the results to all other companies not individually examined.¹¹ However, for this final determination, we have calculated the estimated weighted-average dumping margin assigned to the non-examined separate rate companies based on data included in the petition and surrogate value submissions. See the Issues and Decision Memorandum for further discussion.

¹⁰ See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

¹¹ See, e.g., Certain Preserved Mushrooms from Spain: Final Affirmative Determination of Sales Less Than Fair Value, 88 FR 18120 (March 27, 2023).

Combination Rates

Consistent with the Preliminary Determination,¹² and Policy Bulletin 05.1,¹³ Commerce calculated producer/exporter combination rates for the non-examined companies that are eligible for a separate rate in this final determination.

¹² See Preliminary Determination.

¹³ See Policy Bulletin 05.1.

Final Determination

Commerce determines that the following estimated weighted-average dumping margins exist for the period April 1, 2024, through September 30, 2024:

Exporter | Producer | Weighted- average dumping margin | Cash deposit rate (adjusted for subsidy offsets)
Beijing Refine Biology Co., Ltd | Chuzhou Refine Biology Co., Ltd | 85.04 | 84.95
Hunan Nutramax Inc | Hunan Nutramax Inc | 85.04 | 84.95
Shandong Newnature Biotechnology Co., Ltd | Shandong Sanyuan Biotechnology Co., Ltd | 85.04 | 84.95
Baolingbao Biology Co., Ltd | Baolingbao Biology Co., Ltd | 85.04 | 84.86
China-Wide Entity |  | * 184.26 | 184.26
* This rate is based on facts available with adverse inferences.

Disclosure

Commerce intends to disclose the calculations performed in connection with this final determination within five days of any public announcement or, if there is no public announcement, within five days of the date of publication of this notice in the Federal Register in accordance with 19 CFR 351.224(b).

Suspension of Liquidation

In accordance with section 735(c)(1)(B) of the Act, we instructed U.S. Customs and Border Protection (CBP) to suspend liquidation of all appropriate entries of subject merchandise, as described in Appendix I of this notice, which were entered, or withdrawn from warehouse, for consumption on or after July 16, 2025, the date of publication in the Federal Register of the Preliminary Determination.

In accordance with section 733(d) of the Act, we instructed CBP to discontinue the suspension of liquidation of all entries of subject merchandise entered or withdrawn from warehouse, on or after January 12, 2026, the first day provisional measures were no longer in effect, but to continue the suspension of liquidation of all entries of subject merchandise on or before January 11, 2026.

If the U.S. International Trade Commission (ITC) issues a final affirmative injury determination, we will issue an antidumping duty order, reinstate the suspension of liquidation under section 736(a) of the Act, and require a cash deposit of estimated antidumping duties for entries of subject merchandise in the amounts indicated above, effective on the date of publication of the ITC's affirmative final determination in the Federal Register. If the ITC determines that material injury, or threat of material injury, does not exist, this proceeding will be terminated, and all estimated duties deposited or securities posted as a result of the suspension of liquidation will be refunded or canceled.

Pursuant to section 735(c)(1)(B)(ii) of the Act and 19 CFR 351.210(d), upon resumption of suspension of liquidation, Commerce will also instruct CBP to require a cash deposit for estimated antidumping duties for appropriate entries as follows: (1) for the producer/exporter combinations listed in the table above, the applicable cash deposit rate is listed in the table for that combination; (2) for all combinations of Chinese producers/exporters of subject merchandise that have not established eligibility for a separate rate, the cash deposit rate will be equal to the cash deposit rate listed for the China-wide entity in the table above; and (3) for all third-country exporters of the subject merchandise that are not listed in the table above, the cash deposit rate is the cash deposit rate applicable to the Chinese producer/exporter combination or the China-wide entity that supplied that third-country exporter. These suspension of liquidation instructions will remain in effect until further notice.

To determine the cash deposit rates as the result of an LTFV investigation, Commerce normally adjusts the estimated weighted-average dumping margins by the amount of export subsidies countervailed in the companion countervailing duty (CVD) investigation.. Accordingly, where Commerce has made a final affirmative determination of countervailable export subsides, Commerce offsets the estimated weighted average dumping margins in the LTFV investigation by the appropriate export subsidy rate from the companion CVD investigation. As Commerce made an affirmative determination for export subsidies, we have offset the calculated estimated weighted-average dumping margins in the above table by the appropriate export subsidy rates to calculate the applicable cash deposit rates. In the companion CVD final determination, Commerce determined that Sanyuan did not benefit from export subsidies, Baolingbao had an export subsidy rate of 0.18 percent, and all-other companies had an export subsidy rate of 0.09 percent.¹⁴ With respect to the China-wide entity, as AFA, the export subsidy offset is equal to the lesser of the export subsidy rates found for any company in the CVD final determination because the source of the U.S. price in the AFA rate applied to the China-wide entity is not publicly known, i.e., 0.00. Therefore, there continues to be no offset for export subsidies for the estimated weighted-average dumping margin determined for the China-wide entity.

¹⁴ See Erythritol from the People's Republic of China: Final Affirmative Countervailing Duty Determination, dated concurrently with this notice.

U.S. International Trade Commission (ITC)

In accordance with section 735(d) of the Act, we will notify the ITC of this affirmative final determination of sales at LTFV. Because the final determination in this investigation is affirmative, in accordance with section 735(b)(2) of the Act, the ITC will make its final determination as to whether the domestic industry in the United States is materially injured, or threatened with material injury, by reason of imports of erythritol no later than 45 days after this final determination. If the ITC determines that material injury or threat of material injury does not exist, the proceeding will be terminated and all cash deposits will be refunded, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Suspension of Liquidation” section.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: February 4, 2026.
Christopher Abbott,
Deputy Assistant Secretary for Policy and Negotiations, performing the non-exclusive functions and duties of the Assistant Secretary for Enforcement and Compliance.

Appendix I

Scope of the Investigation

The product within the scope of this investigation is erythritol, which is a sugar alcohol, commonly referred to as a polyol, typically produced by the fermentation of glucose using enzymes and yeast or yeast-like fungi (though the scope includes erythritol produced using any other feedstock or organism). Erythritol is an organic compound with the molecular formula C4 H10 O4 and a Chemical Abstracts Service (CAS) registry number of 149-32-6. Other names for erythritol include meso -erythritol, (2R, 3S)-butan-1,2,3,4-tetrol, butane-1,2,3,4-tetrol, or meso -1,2,3,4-Tetrahydryoxybutane.

Erythritol typically appears as a white crystalline, odorless product that rapidly dissolves in water. While erythritol is typically produced in the crystalline form or as a fine powder or in directly compressible form, the scope of this investigation covers all physical forms and grades of erythritol, including organic erythritol.

The merchandise covered by this investigation is classifiable under Harmonized Tariff Schedule of the United States (HTSUS) subheading 2905.49.4000. Erythritol may also enter under HTSUS subheading 2106.90.9998. Although the HTSUS subheadings and the CAS registry number are provided for convenience and customs purposes, the written description of the merchandise covered by this investigation is dispositive.

Specifically excluded from the scope are certain tabletop sugar substitute products that contain erythritol as an ingredient. Tabletop sugar substitute products include erythritol as an ingredient as well as a high intensity sweeter such as monk fruit, stevia, sucralose, aspartame, and saccharin. The following tabletop sugar substitute products are excluded: finished goods packaged and labeled for retail sale or individual consumption.

Appendix II

List of Topics Discussed in the Issues and Decision Memorandum

I. Summary

II. Background

III. Adjustments to Cash Deposit Rates for Export Subsidies

IV. Separate Rates

V. Changes Since the Preliminary Determination

VI. Rate Selection for Separate Rate Companies

VII. Discussion of the Issues

Comment 1: Sanyuan's Separate Rate Status

Comment 2: Application of AFA to Sanyuan as Part of the China-Wide Entity

Comment 3: Commerce's Placement of Factual Information on the Record

Comment 4: Sanyuan's Request for On-Site Verification

Comment 5: Baolingbao's Separate Rate Status

Comment 6: Baolingbao's Request to be a Voluntary Respondent

VIII. Recommendation

[FR Doc. 2026-02562 Filed 2-9-26; 8:45 am]

BILLING CODE 3510-DS-P